DEPARTMENT OF COMMERCE

National Oceanic and Atmospheric Administration

RIN 0648-XC420

Fisheries of the South Atlantic; South Atlantic Fishery Management Council; Public Meeting

AGENCY: National Marine Fisheries Service (NMFS), National Oceanic and Atmospheric Administration (NOAA), Commerce.

ACTION: Meeting of the South Atlantic Fishery Management Council's (Council) Golden Crab Advisory Panel (AP).

SUMMARY: The South Atlantic Fishery Management Council (SAFMC) will hold a meeting of Golden Crab Advisory Panel (AP) in Fort Lauderdale, FL.

DATES: The meeting will be held on Thursday, January 31, 2013, from 1 p.m. until 5 p.m.

ADDRESSES: The meeting will be held at the Harbor Beach Marriott, 3030 Holiday Drive, Fort Lauderdale, FL 33316; telephone: (954) 525-4000; fax: (954) 766-6185.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the AP's agenda are as follows:

Agenda for Thursday, January 31, 2013

1. Discuss management measures other than a catch share program that could potentially improve the current management of the fishery.

2. Receive an overview of Council actions regarding golden crab management since the last AP meeting, including the status of draft Amendment 6 to the Golden Crab Fishery Management Plan (FMP) for the South Atlantic Region.

3. Suggest and discuss management alternatives as recommendations for Council consideration.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 3 days prior to the meeting.

Note: The times and sequence specified in this agenda are subject to change.

Dated: December 26, 2012.
Tracey L. Thompson,
Acting Deputy Director, Office of Sustainable Fisheries, National Marine Fisheries Service.

[FR Doc. 2012-31357 Filed 12-28-12; 8:45 am]

BILLING CODE 3510-22-P